FEDERAL ELECTION COMMISSION

Notice of Sunshine Act Meeting

AGENCY: Federal Election Commission.

Date and Time: Tuesday, May 12, 2009, at 10 a.m.

Wednesday, May 13, 2009, at 10 a.m.

Place: 999 E Street, NW., Washington, DC.

Status: These meetings will be closed to the public.

Items To Be Discussed:

Compliance matters pursuant to 2 U.S.C. 437g.

Audits conducted pursuant to 2 U.S.C. 437g, section 438(b), and Title 26, U.S.C.

Matters concerning participation in civil actions or proceedings or arbitration.

Internal personnel rules and procedures or matters affecting a particular employee.

* * * * *

Person To Contact for Information: Judith Ingram, Press Officer. Telephone: (202) 694-1220.

Mary W. Dove,
Secretary of the Commission.

[FR Doc. E9-10952 Filed 5-12-09; 8:45 am]

BILLING CODE 6715-01-M